DEPARTMENT OF EDUCATION

[Docket No.: ED-2022-SCC-0076]

Agency Information Collection Activities; Submission to the Office of Management and Budget for Review and Approval; Comment Request; School Pulse Panel 2022 Quarter 3 Revision

AGENCY: Institute of Educational Sciences (IES), Department of Education (ED).

ACTION: Notice.

SUMMARY: In accordance with the Paperwork Reduction Act of 1995, ED is proposing a revision of a currently approved collection.

DATES: Interested persons are invited to submit comments on or before July 1, 2022.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Carrie Clarady, 202-245-6347.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: School Pulse Panel 2022 Quarter 3 Revision.

OMB Control Number: 1850-0969.

Type of Review: A revision of a currently approved collection.

Respondents/Affected Public: Individuals and Households.

Total Estimated Number of Annual Responses: 17,280.

Total Estimated Number of Annual Burden Hours: 4,752.

Abstract: The School Pulse Panel (SPP) is a new data collection originally designed to collect voluntary responses from a nationally representative sample of public schools to better understand how schools, students, and educators are responding to the ongoing stressors of the coronavirus pandemic. The SPP monthly data collection (OMB #1850-0969) was formally cleared in April 2022, with change requests (OMB# 1850-0969 v.2-3) to clear the May and June 2022 Questionnaires cleared shortly thereafter. This collection allows NCES to comply with the January 21, 2021 E.O. 14000 Executive Order on Supporting the Reopening and Continuing Operation of Schools and Early Childhood Education Providers. Information is collected monthly from a nationally representative sample of public schools to better understand how schools, students, and educators are responding to the ongoing stressors of the coronavirus pandemic, along with other priority items for the White House, Centers for Disease Control and Prevention, and Department of Education program offices. The SPP study is extremely important particularly now that COVID-19 has not waned, and the pulse model is one that the agency will need after the pandemic subsides for other quick-turnaround data needs. The purpose of this submission is to propose and seek 30-day public comment on new items (within the scope of research domains both previously established and minimally revised in this request) to be collected on the August and September instruments (Appendix B.4). These items are considered very close to final and will go through minimal testing with school personnel to examine any comprehension concerns with item wording. Feedback from this testing, as well as additional input from SPP stakeholders, will result in modifications and additions that will be reflected in future change requests. Some previously approved items that are considered core content will be collected in August and September. Specifically, items on learning modes, quarantine, and some mitigation items will be repeated to maintain trend over time. Screener questions confirming point of contact information are also included in this revision. We would like to ask for updated contact information at the end of each survey to ensure we have the most up to date information for mailings and communications. Lastly, we plan to now add schools in the outlying areas to the sample, as described in revisions to Part B. All current study operations will be the same for the outlying areas, but we do need to send an introductory email to school principals. That email has been added to Appendix A. There are no changes to burden or costs associated with this revision.

Dated: May 26, 2022.
Juliana Pearson,
PRA Coordinator, Strategic Collections and Clearance Governance and Strategy Division, Office of Chief Data Officer, Office of Planning, Evaluation and Policy Development.

[FR Doc. 2022-11707 Filed 5-31-22; 8:45 am]

BILLING CODE 4000-01-P